DEPARTMENT OF HOUSING AND URBAN DEVELOPMENT

[Docket No. FR-5118-N-02]

Notice of Proposed Information Collection: Comment Request; Housing Opportunities for Persons with AIDS (HOPWA); Competitive Grant Application; Project Budget Summary and Annual Performance Reporting Requirements

AGENCY: Office of Community Planning and Development, HUD.

ACTION: Notice.

SUMMARY: The proposed information collection requirement described below will be submitted to the Office of Management and Budget (OMB) for review, as required by the Paperwork Reduction Act. The Department is soliciting public comments on the subject proposal.

DATES: Comments Due Date: July 30, 2007.

ADDRESSES: Interested persons are invited to submit comments regarding this proposal. Comments should refer to the proposal by name and/or OMB Control Number and should be sent to: Lillian L. Deitzer, Departmental Reports Management Officer, QDAM, Department or Housing and Urban Development, 451 Seventh Street, SW., Room 4176, Washington, DC 20410; telephone: 202-708-2374, (this is not a toll-free number) or e-mail Ms. Deitzer at Lillian_L._Deitzer@HUD.gov for a copy of the proposed form and other available information.

FOR FURTHER INFORMATION CONTACT: William Rudy, Deputy Director, Office of HIV/AIDS Housing, U.S. Department of Housing and Urban Development, 451 Seventh Street, SW., Washington, DC 20410; telephone 202-708-1934 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information

Title of Proposal: (1) HOPWA Competitive and Renewal of Permanent Supportive Housing Project Budget Summary; (2) Annual Progress Report (APR) for competitive grantees; and (3) Consolidated Annual Performance and Evaluation Report (CAPER) for formula grantees.

OMB Control Number, if applicable: 2506-0133.

Description of the need for the information and proposed use: The budget summary form is submitted by both competitive and renewal grant applicants and is used to rate applications, determine program eligibility, and determine individual budget line item grant amounts. Annual performance reporting requirements enables an assessment of grantee progress towards implementing the HOPWA housing stability annual performance outcome measure while measuring project success against planned and actual accomplishments.

Agency form numbers, if applicable: HUD-40110-B; 40110-C; and 40110D.

Members of Affected Public: Business or other for-profit, not-for-profit institutions, State, Local or Tribal governments.

Estimation of the total number of hours needed to prepare the information collection including number of respondents, frequency of response, and hours of response:

Frequency of Submission: Annually.

Reporting Burden:

Description of information collection | Number of respondents | Responses per year | Total annual responses | Hrs per response | Total hours
40110-B Competitive Application Project Budget Summary | 40 | 1 | 40 | 22 | 880
40110-C Annual Progress Report (APR) | 85 | 1 | 85 | 70 | 5,950
40110-D Consolidated Annual Performance and Evaluation Report (CAPER) | 122 | 1 | 122 | 45 | 5,490
Recordkeeping | 247 | 1 | 247 | 68 | 16,796
Grant amendments and extensions | 20 | 1 | 20 | 20 | 400
Uniform relocation act appeals process | 5 | 1 | 5 | 2 | 10
Environmental review recordkeeping | 20 | 1 | 20 | 20 | 400
Miscellaneous other reporting | 40 | 1 | 40 | 6 | 240
Total of grantee annual reporting burden: | 247 | 1 | 247 | 30,166

Total Estimated Burden Hours: 30,166.

Status of the proposed information collection: Extension of a currently approved collection.

Authority: Section 3506 of the Paperwork Reduction Act of 1995, 44 U.S.C. Chapter 35, as amended.

Dated: May 9, 2007.
Pamela H. Patenaude,
Assistant Secretary for Community Planning and Development.

[FR Doc. E7-10158 Filed 5-25-07; 8:45 am]

BILLING CODE 4210-67-P